DEPARTMENT OF STATE

[Public Notice 8289]

Call for Expert Reviewers to the U.S. Government Review of the 2013 Revised Supplementary Methods and Good Practice Guidance Arising From the Kyoto Protocol

SUMMARY: The United States Global Change Research Program, in cooperation with the Department of State, request expert review of the Second Order Draft of the 2013 Revised Supplementary Methods and Good Practice Guidance Arising from the Kyoto Protocol (the KP Supplement).

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation. Among the IPCC's products is a series of guidance documents for the preparation of national greenhouse gas inventories, which provide guidance to periodic submissions by Parties to the U.N. Framework Convention on Climate Change (UNFCCC). These reports are developed in accordance with procedures for preparation and review of IPCC documents, which can be found at the following Web sites:

http://www.ipcc.ch/organization/organization_review.shtml#.UEY0LqSe7x8

http://ipcc.ch/organization/organization_procedures.shtml

The UNFCCC Conference of the Parties serving as the meeting of the Parties to the Kyoto Protocol (CMP) at its seventh session (CMP7), held in December 2011 in Durban, South Africa, invited the IPCC to review and, if necessary, update supplementary methodologies for estimating anthropogenic greenhouse gas emissions by sources and removals by sinks resulting from land use, land-use change and forestry (LULUCF) activities under Article 3, paragraphs 3 and 4, of the Kyoto Protocol (KP), related to the annex to 2/CMP.7, on the basis of, inter alia, Chapter 4 of IPCC's 2003 Good Practice Guidance for Land Use, Land-Use Change and Forestry (GPG-LULUCF). At its 35th plenary session held in Geneva, Switzerland, in June 2012, the IPCC asked its Task Force on National Greenhouse Gas Inventories (TFI) to review and update its supplementary guidance on greenhouse gas emissions and removals from land use, land use change and forestry (LULUCF) for reporting under the Kyoto Protocol.

The need to review and update Chapter 4 of the GPG-LULUCF arises for two reasons. Firstly, the methodologies contained in Chapter 4 provide the link between IPCC's general greenhouse gas inventory guidance, and reporting requirements under the KP. CMP7 agreed rules for LULUCF for the second commitment period under the KP which differ in some respects significantly from the rules agreed for the first commitment period, implying the need to update. Secondly, since Chapter 4 was intended to be used with the latest IPCC LULUCF guidance updating is needed to take account of the decision of the CMP to use the 2006 IPCC Guidelines for the purposes of the second commitment period under the KP. The new rules referred to and agreed by CMP7 on LULUCF contain, amongst other things, new provisions on forest management, emissions and removals associated with natural disturbances in forests, harvested wood products, and wetland drainage and rewetting, which are not covered in the existing Chapter 4.

It is worth noting that the KP Supplement is specific to provisions of the Kyoto Protocol and the United States will, therefore, not be obligated to use these supplementary methods.

As part of the U.S. Government Review of the Second Order Draft of the KP Supplement, the U.S. Government is soliciting comments from experts in relevant fields of expertise (The Terms of Reference, Work Plan and Table of Contents for the TFI contribution can be viewed here: http://www.ipcc-nggip.iges.or.jp/home/docs/1206_TermsOfReference.pdf).

Beginning on 22 April 2013, experts may register and access the Second Order Draft of the report to contribute to the U.S. Government review at: review.globalchange.gov. To be considered for inclusion in the U.S. Government submission, comments must be received by 23 May 2013. The United States Global Change Research Program will coordinate collection and compilation of U.S. expert comments to develop a consolidated U.S. Government submission, which will be provided to the IPCC by 2 June 2013. Instructions for review and submission of comments are available at: review.globalchange.gov.

Experts may choose to provide comments directly through the IPCC's Expert Review process, which occurs in parallel with the U.S. Government Review. More information on the IPCC's comment process can be found at http://www.ipcc.ch/activities/activities.shtml and http://www.ipcc-nggip.iges.or.jp/forms/wetlandsreview_registration.html. To avoid duplication, comments submitted for consideration as part of the U.S. Government Review should not also be sent to the IPCC Secretariat through the Expert Review process (and vice versa). Comments to the U.S. government review should be submitted using the web-based system at: review.globalchange.gov.

This certification will be published in the Federal Register.

Dated: April 17, 2013.
Trigg Talley,
Director, Office of Global Change, Department of State.

[FR Doc. 2013-09689 Filed 4-23-13; 8:45 am]

BILLING CODE 4710-09-P